DEPARTMENT OF TRANSPORTATION

Surface Transportation Board

[STB Finance Docket No. 33977]

County of Coahoma, Mississippi—Acquisition Exemption—Line of Gulf & Ohio Railways, Inc., d/b/a Mississippi Delta Railroad

The County of Coahoma, Mississippi (Coahoma), a Class III rail carrier, has filed a notice of exemption under 49 CFR 1150.41 to acquire (by purchase) approximately 18.6 miles of rail line known as the Lula Line from the Gulf & Ohio Railways, Inc., d/b/a Mississippi Delta Railroad (MSD) extending from milepost 74.00 at Lyon, MS, to milepost 55.40 at Lula, MS.¹ According to Coahoma, it and MSD have negotiated and at the time of the filing of this notice were executing an Asset Purchase Agreement providing for Coahoma's acquisition of MSD's right, title and interest in the Lula line. Coahoma indicates that the Lula line connects at Lyon with another rail line, the Swan Lake line, previously owned by the Illinois Central Railroad Company (IC) and operated by MSD pursuant to a now-expired lease. See Finance Docket No. 30683. Coahoma has since acquired the Swan Lake line from IC which is also operated by MSD.² Coahoma certifies that its annual revenues will not exceed those that would qualify it as a Class III rail carrier and that its annual revenues are not projected to exceed $5 million.

¹ See Gulf & Ohio Railways, Inc.—Exemption From 49 U.S.C. 11301, 10901 and 11322, Finance Docket No. 30683 (ICC served Nov. 6, 1985).

² See County of Coahoma, Mississippi—Acquisition Exemption—Line of Illinois Central Railroad Company, STB Finance Docket No. 33953 (STB served Dec. 7, 2000).

This transaction is related to a simultaneously filed notice of exemption in STB Finance Docket No. 33975, Gulf & Ohio Railways, Inc. d/b/a Mississippi Delta Railroad-Lease and Operation—Lines of the County of Coahoma, Mississippi, wherein MSD seeks to lease and operate the line being acquired by Coahoma.

Coahoma states that, pursuant to an agreement, MSD has agreed to provide service on the Lula Line through June 30, 2001, or until the earlier of either Coahoma finding a long-term operator for the line or July 1, 2001, at which time MSD will cease its operations. Coahoma further states that MSD will seek the Board's approval for any authority needed in connection with its cessation of operations, or having in place Coahoma's long-term operator.

The transaction was expected to be consummated on or shortly after December 20, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33977, must be filed with the Surface Transportation Board, Office of the Secretary, Case Control Unit, 1925 K Street, NW., Washington, DC 20423-0001. In addition, a copy of each pleading must be served on William C. Sippel, Esq., Fletcher & Sippel LLC, Two Prudential Plaza, Suite 3125, 180 North Stetson Avenue, Chicago, IL 60601-6721.

Board decisions and notices are available on our website at http://www.stb.dot.gov.

Decided: December 28, 2000.
By the Board, David M. Konschnik, Director, Office of Proceedings.
Vernon A. Williams,
Secretary.

[FR Doc. 01-210 Filed 1-3-01; 8:45 am]

BILLING CODE 4915-00-P